DEPARTMENT OF COMMERCE

National Oceanic and Atmospheric Administration

[I.D. 051302A]

Fisheries of the Exclusive Economic Zone Off Alaska; Groundfish Fisheries in the Gulf of Alaska

AGENCY: National Marine Fisheries Service (NMFS), National Oceanic and Atmospheric Administration (NOAA), Commerce.

ACTION: Notice of intent to prepare a supplemental environmental impact statement (SEIS); notice of scoping meetings; request for comments.

SUMMARY: NMFS announces its intent to prepare an SEIS in accordance with the National Environmental Policy Act of 1969 (NEPA) for the Fishery Management Plan for Groundfish of the Gulf of Alaska (FMP). The North Pacific Fishery Management Council (Council) proposes management measures to improve the economic efficiency of the Gulf of Alaska (GOA) groundfish fisheries and to address conservation, safety, and social concerns. The Council is considering one or more methods of allocating fishing privileges, such as: individual fishing quotas (IFQs); individual processing quotas (IPQs); allocations to communities; fishing cooperatives program; or other measures. The scope of the SEIS will include a review of the GOA groundfish fisheries that may be affected by management measures that improve the economic efficiency of the GOA groundfish fisheries, the components of these programs, and potential changes to the management of the fisheries under these programs.

NMFS will hold public scoping meetings and accept written comments to determine the issues of concern and the appropriate range of management alternatives to be addressed in the SEIS.

DATES: Written comments will be accepted through November 15, 2002 (see ADDRESSES). Public scoping meetings will be held in August, September, and October. For dates and times see SUPPLEMENTARY INFORMATION.

ADDRESSES: Written comments on issues and alternatives for the SEIS should be sent to Sue Salveson, Assistant Regional Administrator for Sustainable Fisheries, Alaska Region, NMFS, P.O. Box 21668, Juneau, AK., 99802, Attn: Lori Gravel-Durall, or delivered to the Federal Building, 709 West 9th Street, Juneau, AK. Comments may be sent via facsimile (fax) to 907-586-7557. NMFS will not accept comments by e-mail or internet.

An analysis of the issues and alternatives will be available through the North Pacific Fishery Management Council, 605 West 4th, Suite 306, Anchorage, AK., 99501-2252.

Public scoping meetings will be held in Alaska’s Sand Point, King Cove, Kodiak, Cordova, Homer, and Petersburg, and in Seattle, Washington. For specific locations, see SUPPLEMENTARY INFORMATION.

FOR FURTHER INFORMATION CONTACT: Glenn Merrill, (907) 586-7228 or email: glenn.merrill@noaa.gov.

SUPPLEMENTARY INFORMATION: Under the Magnuson-Stevens Fishery Conservation and Management Act (Magnuson-Stevens Act), the United States has exclusive fishery management authority over all living marine resources found within the exclusive economic zone (EEZ). The management of these marine resources, with the exception of marine mammals and birds, is vested in the Secretary of Commerce (Secretary). Eight Regional Fishery Management Councils prepare fishery management plans for approval and implementation by the Secretary. The Council has the responsibility to prepare fishery management plans for the fishery resources that require conservation and management in the EEZ off Alaska.

NEPA requires preparation of an EIS for major Federal actions significantly impacting the quality of the human environment. Regulations implementing NEPA at 40 CFR 1502.4(b) state:

Environmental impact statements may be prepared, and are sometimes required, for broad Federal actions such as adoption of new agency programs or regulations. Agencies shall prepare statements on broad actions so that they are relevant to policy and are timed to coincide with meaningful points in agency planning and decision making.

The FMP was approved by the Secretary on April 12, 1978. The Secretary has approved numerous amendments to the FMP since that time. Section 304 of the Magnuson-Stevens Act specifies a process for amending FMPs.

The proposed action to be addressed in the SEIS is amendment of the FMP to include policies and management measures that would increase the economic efficiency of the GOA groundfish fisheries. Additional information on EISs pertaining to Gulf of Alaska groundfish fisheries may be obtained through NMFS (see ADDRESSES). Fisheries conducted under such policies and management measures generally are considered more “rational” than other fisheries because capital investment in “rationalized” fisheries tends to be in balance with the amount of fish that can be conservatively harvested. Hence, to “rationalize” the management of the GOA groundfish fisheries implies that the management required will incorporate economic incentives that prevent or reduce excessive capital investment. This is commonly accomplished through the establishment of transferable harvesting privileges or other market-based systems for allocating access to the fishery resources.

Rationalization programs may provide additional opportunities to use fishing methods that reduce the bycatch of non-target species and reduce gear conflicts thereby addressing larger conservation goals. Rationalization programs also may reduce the incentive to fish during unsafe conditions. Rationalization programs frequently result in substantial changes to the existing management regime and these changes may have a significant effect on the human environment.

The SEIS will examine the GOA groundfish fisheries authorized under the FMP, which may be affected by any proposed rationalization program and the potential changes to the management of the fisheries under these programs. The scope of the alternatives analyzed is intended to be broad enough for the Council and NMFS to make informed decisions on whether a rationalization program should be developed and, if so, how it should be designed, and to assess other changes to the FMP as necessary with the implementation of these programs.

NMFS is seeking information from the public through the scoping process on the range of alternatives to be analyzed and on the environmental, social, and economic issues to be considered in the analysis.

Alternatives

The analysis will evaluate a range of alternative regimes for managing GOA groundfish fisheries. Alternatives analyzed in the SEIS may include those identified here, plus additional alternatives developed through the public scoping process and the Council.

The potential alternatives already identified for the SEIS include: (1) the existing management measures (status quo); (2) a rationalization program; and (3) a modified Licence Limitation Program. The specific options for a rationalization program identified thus far include the use of IFQs, IPQs, fishing cooperatives, and quotas held by communities, either separately or in combination. The particular combination of these options would effectively provide multiple “alternative” rationalization programs. Public scoping meetings will provide the opportunity for comment on the range of alternatives and the specific options within the rationalization alternative.

Specific options for rationalization are derived from preliminary discussions by three separate Council GOA rationalization committees tasked to address this issue, recommendations from the Council’s Advisory Panel, and the Council. In addition, the Consolidated Appropriations Act of 2001 (Public Law 106-554) requires the Council to examine the fisheries under its jurisdiction, particularly the Gulf of Alaska groundfish fisheries, to determine whether rationalization is needed and describes management measures that should be analyzed. Additional information on the specific options for rationalization may be obtained through the Council (see ADDRESSES), or via the Council website at http://www.fakr.noaa.gov/npfmc/.

The Council may recommend specific options for analysis in late 2002. The rationalization alternative, options for consideration, and other alternatives and options, will be developed through this scoping process in coordination with the Council’s rationalization committee and the Council. Depending on the rationalization program options selected, Congressional action may be required to provide statutory authority to implement a specific rationalization alternative preferred by the Council. Lack of statutory authority for any particular alternative or option does not prevent consideration of that alternative or option in the SEIS.

Public Involvement

Scoping is an early and open process for determining the scope of issues to be addressed and for identifying the significant issues related to the proposed action. A principal objective of the scoping and public involvement process is to identify a reasonable range of management alternatives that, with adequate analysis, will identify critical issues and provide a clear basis for distinguishing between those alternatives and selecting a preferred alternative.

NMFS is seeking written public comments on the scope of issues that should be addressed in the SEIS and on alternatives and options that should be considered for management of the GOA groundfish fisheries.

Public comments on specific aspects of the rationalization programs should be submitted to NMFS (see ADDRESSES). The public also will be able to provide oral and written comments at the meetings listed below. The Council will make a draft analysis of these alternative programs available for public review and comment. Copies of the analysis can be requested from the Council (see ADDRESSES).

Dates, Times, and Locations for Public Scoping Meetings

1. Saturday, August 17, 2002, from 9 a.m. to noon—Aleutians East Borough Office, 100 Mossberry Lane, Sand Point, AK.

2. Sunday, August 18, 2002, from 9 a.m. to noon—King Cove Harbor House, 100 Harbor House Road, King Cove, AK.

3. Friday, August 23, 2002, from 1 p.m. to 4:00 p.m.— Fishery Industrial Technology Center, 118 Trident Way, Kodiak, AK.

4. Monday, September 16, 2002, from 5 p.m to 8 p.m.—Cordova City Library Meeting Room, 622 First Street, Cordova, AK.

5. Tuesday, September 24, 2002, from 2 p.m. to 5 p.m.—Best Western Bidarka Inn, 575 Sterling Highway, Homer, AK.

6. Thursday, September 26, 2002, from 3 p.m. to 6 p.m.—City Council Chambers, 12 Nordic Drive, Petersburg, AK.

7. Tuesday, October 1, 2002, from 6 p.m. to 9 p.m.—Doubletree Hotel, Seattle Airport, 18740 Pacific Highway South, Seattle, WA, in conjunction with the Council’s October meeting.

The public is invited to assist NMFS in developing the scope of alternatives and issues to be analyzed for the SEIS. Comments will be accepted in writing at the meetings and at the NMFS address above (see ADDRESSES). Meeting schedules may be delayed due to weather conditions and flight availability in some locations. Meetings may be rescheduled if necessary.

Special Accommodations

These meetings are physically accessible to people with disabilities. Requests for sign language interpretation or other auxiliary aids should be directed to Glenn Merrill, NMFS, (see ADDRESSES), (907) 586—7228, at least 5 days prior to the meeting date.

Authority: 16 U.S.C. 1801 et. seq.

Dated: May 21, 2002.
Virginia M. Fay,
Acting Director, Office of Sustainable Fisheries, National Marine Fisheries Service.

[FR Doc. 02-13256 Filed 5-28-02; 8:45 am]

BILLING CODE 3510-22-S